FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

United Global Services (NY) Corp., 230-19 International Airport Center Blvd., Building A, Room 238, Jamaica, NY 11413, Officer: Yuk Fung Cheung, President, (Qualifying Individual).

Triship Global Logistics, Inc., 8290 N.W. 14th Street, Miami, FL 33126, Officer: Miguel Guerrero, President, (Qualifying Individual).

Non-Vessel Operating Common Carrier and Ocean Freight Forwarder Transportation Intermediary Applicants:

International Freight Management, LLC, 1840 Gateway Drive, Suite 200, Metro Gateway Center, San Mateo, CA 94404, Officer: Elizabeth P. Del Rosario, General Manager, (Qualifying Individual).

Trinity Select Group LLC, 503 Guys Run Road, Suite W6, Cheswick, PA 15024, Officer: Anthony Duryea, Vice President, (Qualifying Individual).

Savino Del Bene U.S.A., Inc., 149-10 183rd Street, Jamaica, NY 11413, Officers: Migdalia Diaz, Vice President, (Qualifying Individual), Silvano Brandani, Director/President.

Ocean Freight Forwarder—Ocean Transportation Intermediary Applicant:

Lott Ship Agency, Inc., 259 N. Conception Street, Mobile, AL 36603, Officers: Stephen G. Havranek, Vice President, Jocelyn McMullen, Traffic Manager, (Qualifying Individuals).

Dated: September 12, 2003.
Bryant L. VanBrakle,
Secretary.

[FR Doc. 03-23784 Filed 9-17-03; 8:45 am]

BILLING CODE 6730-01-P